DELAWARE RIVER BASIN COMMISSION

Notice of Commission Meeting and Public Hearing

Notice is hereby given that the Delaware River Basin Commission will hold an informal conference followed by a public hearing on Thursday, September 28, 2000. The hearing will be part of the Commission's regular business meeting. Both the conference session and business meeting are open to the public and will be held in Bellevue Hall at the Bellevue State Park, 911 Philadelphia Pike, Wilmington, Delaware.

The conference among the Commissioners and staff will begin at 10:00 a.m. Topics of discussion will include the Delaware Water Supply Coordinating Council Progress Report of May 31, 2000; and the DRBC's requirements for review and approval of projects under section 3.8 and Article 13 of the Compact, with a focus on the possible need to expand Commission review to certain pre-Compact projects. Summaries of the following six meetings will be presented: Inaugural meetings of the Monitoring Advisory Committee and Flood Advisory Committee on September 6 and 7, respectively; meeting of the Water Management Advisory Committee on September 12, including discussion of a proposal to amend DRBC metering regulations; presentation by the Coalition of Municipal/Industrial Dischargers on August 28; meeting of the Toxics Advisory Committee on September 20; and meeting of the Flow Management Technical Advisory Committee on September 21. Also scheduled for the conference session are a summary of the Christina River Basin TMDL hearings and, time permitting, a presentation on the Pocono Creek Goal-Based Watershed Management Pilot Study.

The subjects of the public hearing to be held during the 1:30 p.m. business meeting include, in addition to the dockets listed below, proposed resolutions to: Temporarily modify Docket No. D-77-20 CP (Revision No. 3) to provide additional releases from Cannonsville Reservoir; and approve Fiscal Year 2000 budget adjustments.

The dockets scheduled for public hearing are as follows:

1. New York State Department of Environmental Conservation D-77-20 CP (Revision No. 3). An application to temporarily modify the operating plan for the Schedule of Release Rates from Cannonsville, Pepacton and Neversink Reservoirs in Delaware and Sullivan Counties, New York.

2. Wilmington Country Club D-90-38 RENEWAL. A renewal of a combined surface and ground water withdrawal project to supply up to 24.4 million gallons (mg)/30 days of water to the applicant's golf course irrigation system. Up to 4.32 mg/30 days can be supplied from Wells Nos. 1-3 in the Wissahickon Formation, and up to 24.4 mg/30 days from an existing surface water intake on Wilson Run, a tributary of Brandywine Creek. Commission approval on June 27, 1990 was limited to 10 years. The applicant requests that the total withdrawal from all sources remain limited to 24.4 mg/30 days. The project is located near the Village of Montchanin, New Castle County, Delaware.

3. Telford Borough Authority D-95-40 CP. A project to rerate the applicant's existing 0.95 million gallons per day (mgd) extended aeration sewage treatment plant (STP) to 1.1 mgd. The STP is located off Fourth Street in Franconia Township, Montgomery County, Pennsylvania and will continue to serve portions of Franconia Township and Telford and Souderton Boroughs in Montgomery County, as well as portions of West Rockhill and Hilltown Townships in Bucks County. The STP will continue to discharge to Indian Creek in the East Branch Perkiomen Creek watershed via the existing outfall structure.

4. Conectiv Energy, Inc. D-2000-12 CP. A project to increase the electric power generation capacity from 450 megawatts (MW) to 1000 MW at the applicant's Hay Road Power Complex, which includes the Edge Moor and Hay Road Stations, and increase the associated consumptive water use. The applicant proposes the phased construction of three gas-fired and one steam-powered generation units (Nos. 5, 6, 7 and 8, respectively) on the Brownfield site located just east of Hay Road in the City of Wilmington, New Castle County, Delaware that will supply electric power to the Pennsylvania-Jersey-Maryland power grid. As with its Hay Road station, the project will utilize the Edge Moor station non-contact cooling water discharge (to Water Quality Zone 5) as its source for cooling tower make-up and will not require an increase in the existing allowable withdrawal for the Complex. The applicant estimates that up to 7.2 mgd of water supply will be diverted from the discharge channel and that approximately 67 percent (4.8 mgd) will be consumptively used. Cooling tower blowdown will be discharged to the existing man-made cooling water discharge channel in the Delaware River Water Quality Zone 5.

5. Calpine Construction Finance Company D-2000-14 CP. A project to construct a 544 MW combined-cycle electric generating station on the applicant's 19-acre site between State Route 61 and the Conrail railroad lines in Ontelaunee Township, Berks County, Pennsylvania. The natural gas-fired facility will transfer electric power to the GPU North Temple substation approximately one mile away. The Reading Area Water Authority (RAWA) will supply approximately 4.0 mgd of water from its Ontelaunee Reservoir, located approximately three miles north, to the applicant's facility for cooling tower make-up and steam, of which 0.35 mgd will be treated and discharged to the Schuylkill River. The applicant also proposes to offset its consumptive use of approximately 3.6 mgd via use of Ontelaunee Reservoir storage.

6. Realen Homes D-2000-26 CP. A ground water withdrawal project to supply a combined total to 3.7 mg/30 days of water to the applicant's proposed Ridgelea residential development from new Wells Nos. SW-1 and SW-2 in the Stockton Formation. The project is located in South Coventry Township, Chester County in the Southeastern Pennsylvania Ground Water Protected Area.

7. Maidencreek Township Authority D-2000-28 CP. A project to expand the applicant's secondary treatment 0.45 mgd STP to an annual average 0.8 mgd. The proposed oxidation ditch system is designed to treat a maximum monthly flow of 1.0 mgd for residential and industrial connections in portions of Maidencreek and Ontelaunee Townships, both in Berks County, Pennsylvania. The STP is located off Willow Creek Road, approximately one-quarter mile northwest of its intersection with East Huller Lane. Treated effluent will continue to be discharged to Willow Creek, a tributary of Maiden Creek in the Schuylkill River watershed.

8. FPL Energy Marcus Hook, L.P. D-2000-44. A project to construct a nominal 750 MW gas-fired combined cycle electric generating station at SUNOCO's Marcus Hook Refinery, located along the Delaware River in Water Quality Zone 4 in Marcus Hook Borough, Delaware County, Pennsylvania. The applicant requests an allocation of up to 11 mgd of surface water to be diverted via SUNOCO's existing intake on the Delaware River (no increase in SUNOCO'S allocation is necessary). Maximum monthly usage is expected to be approximately 9.4 mgd. Up to 2.34 mgd of project wastewater will be conveyed to the DELCORA sewage treatment plant for treatment and discharge to the Delaware River. The proposed electric power station will provide electricity to the Pennsylvania-Jersey-Maryland power grid and also will supply steam to SUNOCO.

9. Reading Area Water Authority D-2000-59 CP. A new Operating Plan for the applicant's Ontelaunee Reservoir due to the decommissioning of its 0.945 MW hydroelectric facilities approved via Docket No. D-86-72 CP on August 3, 1988. Operation of the hydroelectric turbines has become cost ineffective and depletes storage in the Reservoir. The turbines will be removed from service and Docket No. D-86-72 CP will be rescinded. RAWA proposes to initiate a staged release program to conserve storage by varying releases depending upon the volume of storage available. The new release program is designed to meet streamflow objectives for Maiden Creek while storage continues to provide for existing and future water demand in the RAWA service area. Ontelaunee Reservoir is located on Maiden Creek in Ontelaunee Township, Berks County, Pennsylvania.

10. Jefferson Township Sewer Authority D-2000-61 CP. A project to transfer up to 410,000 gpd of raw wastewater from Jefferson Township, Lackawanna County, Pennsylvania in the Delaware River Basin, to the Scranton Sewer Authority STP in the City of Scranton, also in Lackawanna County, for discharge to the Susquehanna River Basin. Approximately 385,840 gpd of the wastewater originates from ground water sources within the Delaware River Basin, and therefore, is considered an exportation. The project will replace failing on-lot disposal systems serving portions of Jefferson Township, which straddles the Basin divide. The project is proposed as an alternative to a 410,000 gpd STP previously approved for in-Basin discharge (in the Wallenpaupack Creek watershed) via Docket No. D-97-6 CP on November 19, 1997.

In addition to the public hearing, the Commission will address the following at its 1:30 p.m. business meeting: minutes of the July 26, 2000 business meeting; announcements; report on hydrologic conditions in the basin; reports by the Executive Director and General Counsel; and resolutions to: approve the Delaware Water Supply Coordinating Council Progress Report of May 31, 2000 as satisfying the requirements of DRBC Docket Nos. D-96-50 CP, D-90-110 CP, and D-97-48 CP to develop a preliminary Integrated Resources Supply Plan by July 1, 2000; approve a grant agreement between the DRBC and the State of New Jersey for the Lower Delaware Watershed Region Program Grant: Tidal Rancocas Creek Hydrodynamic Model; authorize the Executive Director to contract with the U.S. Geological Survey, the Montgomery County Planning Commission and the U.S. Army Corps of Engineers to complete tasks outlined in an amendment to an agreement between the Delaware River Basin Commission and the Commonwealth of Pennsylvania Department of Environmental Protection; and approve continued funding for a monitoring program for the tidal Schuylkill River in cooperation with the Academy of Natural Sciences of Philadelphia. Time also will be reserved for public dialogue.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs.

Dated: September 12, 2000.
Pamela M. Bush,
Commission Secretary.

[FR Doc. 00-24277 Filed 9-20-00; 8:45 am]

BILLING CODE 6360-01-P